DEPARTMENT OF HOMELAND SECURITY

[DHS Docket No. ICEB-2013-0001]

RIN 1653-ZA05

Extension of Employment Authorization for Syrian F-1 Nonimmigrant Students Experiencing Severe Economic Hardship as a Direct Result of Civil Unrest in Syria Since March 2011

AGENCY: U.S. Immigration and Customs Enforcement (ICE), DHS.

ACTION: Notice.

SUMMARY: This notice informs the public of the extension of an earlier notice, which suspended certain requirements for F-1 nonimmigrant students whose country of citizenship is Syria and who are experiencing severe economic hardship as a direct result of the civil unrest in Syria since March 2011. This notice extends the effective date of that notice.

DATES: This notice is effective June 17, 2013 and will remain in effect through March 31, 2015.

FOR FURTHER INFORMATION CONTACT: Louis Farrell, Director, Student and Exchange Visitor Program; MS 5600, U.S. Immigration and Customs Enforcement; 500 12th Street SW., Washington, DC 20536-5600; (703) 603-3400. This is not a toll-free number. Program information can be found at http://www.ice.gov/sevis/.

SUPPLEMENTARY INFORMATION:

What action is DHS taking under this notice?

The Secretary of Homeland Security is exercising her authority under 8 CFR 214.2(f)(9) to extend the temporary suspension of the applicability of certain requirements governing on-campus and off-campus employment for F-1 nonimmigrant students whose country of citizenship is Syria and who are experiencing severe economic hardship as a direct result of the civil unrest in Syria since March 2011. See 77 FR 20038 (Apr. 3, 2012). The original notice was effective from April 3, 2012 until October 3, 2013. Effective with this publication, suspension of the requirements is extended for 18 months from October 3, 2013 through March 31, 2015.

F-1 nonimmigrant students granted employment authorization through the notice will continue to be deemed to be engaged in a “full course of study” for the duration of their employment authorization, provided they satisfy the minimum course load requirement described in 77 FR 20038. See 8 CFR 214.2(f)(6)(i)(F).

Who is covered under this action?

This notice applies exclusively to F-1 nonimmigrant students whose country of citizenship is Syria and who were lawfully present in the United States in F-1 nonimmigrant status on April 3, 2012 under section 101(a)(15)(F)(i) of the Immigration and Nationality Act (INA), 8 U.S.C. 1101(a)(15)(F)(i), and (1) are enrolled in an institution that is Student and Exchange Visitor Program (SEVP)-certified for enrollment of F-1 students, (2) are currently maintaining F-1 status, and (3) are experiencing severe economic hardship as a direct result of the civil unrest in Syria since March 2011.

This notice applies to both undergraduate and graduate students, as well as elementary school, middle school, and high school students. The notice, however, applies differently to elementary school, middle school, and high school students (see the discussion published at 77 FR 20040 in the question, “Does this notice apply to elementary school, middle school, and high school students in F-1 status?”).

F-1 students covered by this notice who transfer to other academic institutions that are SEVP-certified for enrollment of F-1 students remain eligible for the relief provided by means of this notice.

Why is DHS taking this action?

The Department of Homeland Security (DHS) took action to provide temporary relief to F-1 nonimmigrant students whose country of citizenship is Syria and who were experiencing severe economic hardship as a result of the civil unrest in Syria since March 2011. See 77 FR 20038. It enabled these F-1 students to obtain employment authorization, work an increased number of hours while school was in session, and reduce their course load, while continuing to maintain their F-1 student status.

Syria continues to experience civil unrest, with many people still displaced as a result. Furthermore, economic sanctions imposed by the international community have negatively affected the whole of the Syrian economy. Given the current conditions in Syria, affected students whose primary means of financial support comes from Syria may need to be exempt from the normal student employment requirements to be able to continue their studies in the United States and meet basic living expenses.

The United States is committed to continuing to assist the people of Syria. DHS is therefore extending this employment authorization for F-1 nonimmigrant students whose country of citizenship is Syria and who are experiencing severe economic hardship as a result of the civil unrest since March 2011.

How do I apply for an employment authorization under the circumstances of this notice?

F-1 nonimmigrant students whose country of citizenship is Syria who were lawfully present in the United States on April 3, 2012 and are experiencing severe economic hardship as a result of the civil unrest may apply for employment authorization under the guidelines described in 77 FR 20038. This notice extends the time period during which such F-1 students may seek employment authorization due to the civil unrest. It does not impose any new or additional policies or procedures beyond those listed in the original notice. All interested F-1 students should follow the instructions listed in the original notice.

Janet Napolitano,
Secretary.

[FR Doc. 2013-14102 Filed 6-14-13; 8:45 am]

BILLING CODE 9111-28-P